DEPARTMENT OF ENERGY

Federal Energy Regulatory Commission

Combined Notice of Filings #1

May 05, 2010.

Take notice that the Commission received the following electric rate filings:

Docket Numbers: ER09-393-002.

Applicants: West Oaks Energy, LLC.

Description: West Oaks Energy, LLC submits Notice of Non-Material Change in Status in compliance with Commission's reporting requirements adopted in Order 652.

Filed Date: 05/04/2010.

Accession Number: 20100504-0218.

Comment Date: 5 p.m. Eastern Time on Tuesday, May 25, 2010.

Docket Numbers: ER09-1321-003.

Applicants: Blue Canyon Windpower V LLC.

Description: Supplement to Notice of Change in Status of Blue Canyon Windpower V LLC.

Filed Date: 05/04/2010.

Accession Number: 20100504-5152.

Comment Date: 5 p.m. Eastern Time on Tuesday, May 25, 2010.

Docket Numbers: ER10-400-002.

Applicants: MidAmerican Energy Company.

Description: MidAmerican Energy Company submits Original Sheet 1 to Fourth Revised FERC Rate Schedule 82 et al.

Filed Date: 05/04/2010.

Accession Number: 20100504-0222.

Comment Date: 5 p.m. Eastern Time on Tuesday, May 25, 2010.

Docket Numbers: ER10-787-002.

Applicants: ISO New England Inc.

Description: ISO New England Inc submits Substitute 1st Revised Sheet 15W to FERC Electric Tariff 3 reflecting the reconciliation of two filings previously accepted by the FERC.

Filed Date: 05/04/2010.

Accession Number: 20100504-0221.

Comment Date: 5 p.m. Eastern Time on Tuesday, May 25, 2010.

Docket Numbers: ER10-1180-000.

Applicants: Southern California Edison Company.

Description: Southern California Edison Company submits revised rate sheets for the Small Generator Interconnection Agreement and Service Agreement for Wholesale Distribution Service with MM West Covina, LLC etc.

Filed Date: 05/04/2010.

Accession Number: 20100504-0220.

Comment Date: 5 p.m. Eastern Time on Tuesday, May 25, 2010.

Docket Numbers: ER10-1181-000.

Applicants: Vermont Electric Cooperative, Inc.

Description: Vermont Electric Cooperative, Inc submits 2010 transmission formula rate update to its charges produced by the formula rates etc.

Filed Date: 05/04/2010.

Accession Number: 20100504-0219.

Comment Date: 5 p.m. Eastern Time on Tuesday, May 25, 2010.

Docket Numbers: ER10-1182-000.

Applicants: ISO New England Inc.

Description: ISO New England Inc. submits the Installed Capacity Requirement, Local Sourcing Requirements, et al.

Filed Date: 05/04/2010.

Accession Number: 20100505-0202.

Comment Date: 5 p.m. Eastern Time on Tuesday, May 25, 2010.

Docket Numbers: ER10-1183-000.

Applicants: ISO New England Inc. and New England Power Pool.

Description: ISO New England Inc. et al. submits tariff sheets reflecting modifications to the ISO Tariff.

Filed Date: 05/04/2010.

Accession Number: 20100505-0203.

Comment Date: 5 p.m. Eastern Time on Tuesday, May 25, 2010.

Docket Numbers: ER10-1184-000.

Applicants: Blackstone Wind Farm II LLC.

Description: Petition of Blackstone Wind Farm II LLC for order accepting market-based rate tariff for filing and granting waivers and blanket approvals and request for expedited treatment.

Filed Date: 05/04/2010.

Accession Number: 20100505-0204.

Comment Date: 5 p.m. Eastern Time on Tuesday, May 25, 2010.

Take notice that the Commission received the following electric reliability filings:

Docket Numbers: RR09-9-003; RR08-6-007; RR07-14-007.

Applicants: North American Electric Reliability Corp.

Description: Further Report of the North American Electric Reliability Corporation in Response to Paragraph 36 of October 15, 2009 Order on 2010 Business Plans and Budgets.

Filed Date: 05/03/2010.

Accession Number: 20100503-5153.

Comment Date: 5 p.m. Eastern Time on Monday, May 24, 2010.

Docket Numbers: RR10-9-000.

Applicants: North American Electric Reliability Corp.

Description: Petition of North American Electric Reliability Corporation for Approval of Amended 2010 Business Plan and Budget of Western Electricity Coordinating Council and Amendment to Exhibit E.

Filed Date: 04/22/2010.

Accession Number: 20100422-5186.

Comment Date: 5 p.m. Eastern Time on Wednesday, May 26, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-11243 Filed 5-11-10; 8:45 am]

BILLING CODE 6717-01-P